DEPARTMENT OF HEALTH AND HUMAN SERVICES

Health Resources and Services Administration

Agency Information Collection Activities; Proposed Collection; Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995.

To request more information on the proposed project or to obtain a copy of the data collection plans and draft instruments, call the HRSA Reports Clearance Officer at (301) 443-1129.

Comments are invited on: (a) Whether the proposed collection of information is necessary for the proper performance of the functions of the agency, including whether the information shall have practical utility; (b) the accuracy of the agency's estimated burden of the proposed collection of information; (c) ways to enhance the quality, utility, and clarity of the information to be collected; and (d) ways to minimize the burden of the collection of information on respondents, including through the use of automated collection techniques or other forms of information technology.

Proposed Project: Office of Health Information Technology, Health Center Controlled Networks Progress Reports—New

The Office of Health Information Technology (OHIT), Division of State and Community Assistance (DSCA) plans to collect network outcome measures, conduct evaluation of those measures, and create an electronic reporting system for the following new 2007 grant opportunities: Health Information Technology Planning Grants, Electronic Health Record Implementation Health Center Controlled Networks, Health Information Technology Innovations for Health Center Controlled Networks, and High Impact Electronic Health Records Implementation for Health Center Controlled Networks and Large Multi Site Health Centers.

In order to help carry out its mission, DSCA has created a set of performance measures that grantees will use to evaluate the effectiveness of their service programs and monitor their progress through the use of performance reporting data.

OHIT will develop an electronic performance measurement reporting instrument with HRSA's Office of Information Technology. The instrument will be developed to accomplish the following goals: To monitor improved access to needed services, to evaluate the productivity and efficiency of the networks, and to monitor patient outcome measures. Grantees will submit their Progress Reports in a mid-year report and an accumulative annual progress report each fiscal year of the grant.

The estimates of burden are as follows:

Application | Number of respondents | Responses per respondent | Total responses | Hours per response | Total burden hours
Planning | 12 | 2 | 24 | 18 | 432
Electronic Health Records Implementation | 8 | 2 | 16 | 18 | 288
Innovations Category 1 | 7 | 2 | 14 | 18 | 252
Innovations Category 2 | 5 | 2 | 10 | 18 | 180
High Impact | 8 | 2 | 16 | 18 | 288
Totals | 40 |  | 80 |  | 1,440

Send comments to Susan G. Queen, Ph.D., HRSA Reports Clearance Officer, Room 10-33, Parklawn Building, 5600 Fishers Lane, Rockville, MD 20857. Written comments should be received within 60 days of this notice.

Dated: June 28, 2007.
Caroline Lewis,
Associate Administrator for Management.

[FR Doc. E7-13167 Filed 7-6-07; 8:45 am]

BILLING CODE 4165-15-P